DEPARTMENT OF THE TREASURY

Office of Foreign Assets Control

Additional Designations, Foreign Narcotics Kingpin Designation Act, and Unblocking of One Individual Blocked Pursuant to Executive Order 13382 of June 28, 2005

AGENCY: Office of Foreign Assets Control, Treasury.

ACTION: Notice.

SUMMARY: The U.S. Department of the Treasury's Office of Foreign Assets Control (OFAC) is publishing the names of two entities and two individuals whose property and interests in property have been blocked pursuant to the Foreign Narcotics Kingpin Designation Act (Kingpin Act) (21 U.S.C. 1901-1908, 8 U.S.C. 1182). OFAC is also removing the name of one individual whose property and interest in property were blocked pursuant to Executive Order 13382 of June 28, 2005, “Blocking Property of Weapons of Mass Destruction Proliferators and Their Supporters” from the list of Specially Designated Nationals and Blocked Persons (SDN List).

DATES: The designation by the Acting Director of OFAC of the two entities and two individuals identified in this notice pursuant to section 805(b) of the Kingpin Act is effective as of April 8, 2015. The removal of the individual from the SDN List is effective as of April 3, 2015.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On April 8, 2015, the Acting Director of OFAC designated the following entities and individuals whose property and interests in property are blocked pursuant to section 805(b) of the Kingpin Act.

Entities

1. CARTEL DE JALISCO NUEVA GENERACION (a.k.a. CJNG; a.k.a. NEW GENERATION CARTEL OF JALISCO), Mexico [SDNTK].

2. LOS CUINIS (a.k.a. LOS CUINIS DRUG TRAFFICKING ORGANIZATION; a.k.a. LOS QUINIS), Mexico [SDNTK].

Individuals

1. GONZALEZ VALENCIA, Abigael (a.k.a. GOMEZ FLORES, Luis Angel; a.k.a. GONZALEZ VALENCIA, Abigail; a.k.a. GONZALEZ VALENCIA, Luis Angel; a.k.a. TAK TOLEDO, Jonathan Paul; a.k.a. TAK TOLEDO, Paul Jonathan); DOB 18 Oct 1972; alt. DOB 28 Oct 1979; POB Aguililla, Michoacan, Mexico; alt. POB Guadalajara, Jalisco, Mexico; alt. POB Apatzingan, Michoacan, Mexico; Gender Male; Passport JX755855 (Canada); C.U.R.P. GOVA721018HMNNLB07 (Mexico); alt. C.U.R.P. GOFL721018HJCMLS02 (Mexico); alt. C.U.R.P. GOVL721018HMNNLS08 (Mexico) (individual) [SDNTK] (Linked To: LOS CUINIS).

2. OSEGUERA CERVANTES, Nemesio (a.k.a. OSEGUERA CERVANTES, Ruben; a.k.a. “Mencho”); DOB 17 Jul 1966; alt. DOB 17 Jul 1964; POB Naranjo de Chila, Aguililla, Michoacan, Mexico (individual) [SDNTK] (Linked To: CARTEL DE JALISCO NUEVA GENERACION).

The Department of the Treasury's Office of Foreign Assets Control has determined that the following individual is no longer blocked pursuant to E.O. 13382 and the name has been removed from the SDN List:

Individual

TAHIR, Buhary Seyed Abu; DOB 17 Apr 1959; POB Chennai, India; nationality Sri Lanka; Additional Sanctions Information—Subject to Secondary Sanctions; Passport M2068357 (Sri Lanka) issued 04 Sep 2001 expires Sep 2006; alt. Passport M1754102 (Sri Lanka) issued 16 Mar 1999 expires 16 Mar 2004 (individual) [NPWMD] [IFSR].

The unblocking of this individual is effective as of April, 3 2015. All property and interests in property of the individual that are in or hereafter come within the United States or the possession or control of United States persons are now unblocked.

Dated: April 8, 2015.
John E. Smith,
Acting Director, Office of Foreign Assets Control.

[FR Doc. 2015-08642 Filed 4-14-15; 8:45 am]

BILLING CODE 4810-AL-P